ENVIRONMENTAL PROTECTION AGENCY

[EPA-HQ-OAR-2022-0430; FRL-8838-03-OAR]

Notice of Data Availability Relevant to Data Reported Under the American Innovation and Manufacturing Act of 2020

AGENCY: Environmental Protection Agency (EPA).

ACTION: Notice of data availability.

SUMMARY: This Notice of Data Availability is to alert stakeholders that the U.S. Environmental Protection Agency (EPA) has released data on production, consumption, and other activity related to hydrofluorocarbons regulated under the American Innovation and Manufacturing Act of 2020. The Agency has published these data in the Protecting Our Climate by Reducing Use of HFCs web area.

DATES: January 17, 2024.

FOR FURTHER INFORMATION CONTACT: Rob Landolfi, U.S. Environmental Protection Agency, Stratospheric Protection Division, telephone number: 202-343-9161; or email address: Landolfi.Robert@epa.gov. You may also visit EPA's website at https://www.epa.gov/climate-hfcs-reduction for further information.

SUPPLEMENTARY INFORMATION:

I. Background

EPA has published information collected under mandatory reporting requirements in 40 CFR part 84 that support the hydrofluorocarbon (HFC) phasedown specified in the American Innovation and Manufacturing Act of 2020 (AIM Act or Act) and codified at 42 U.S.C. 7675. Information regarding entities' HFC allowance usage has also been made available.

II. What information is available?

EPA is providing notice that the Agency has published the following data in the Protecting Our Climate by Reducing Use of HFCs web area for calendar year 2022.

Per entity:

• Unused consumption allowances

• Unused production allowances

• Administrative consequences applied

• Number of allowances transferred due to acquisitions

• Additional consumption allowances granted

• Number of allowances transferred between entities

• Number of consumption allowances expended

• Number of production allowances expended

• End of year inventories of regulated HFCs

By regulated HFC:

• Amount destroyed

• Amount exported

• Amount imported for feedstock use

• Total amount produced (gross)

• Amount produced for feedstock use

• Calculated consumption consistent with the AIM Act

• Calculated consumption consistent with reporting requirements under the Montreal Protocol

• Calculated production

Cynthia A. Newberg,
Director, Stratospheric Protection Division.

[FR Doc. 2024-00787 Filed 1-16-24; 8:45 am]

BILLING CODE 6560-50-P